DEPARTMENT OF COMMERCE

International Trade Administration

[A-570-851]

Certain Preserved Mushrooms from the People's Republic of China: Initiation of New Shipper Review

AGENCY: Import Administration, International Trade Administration, Department of Commerce.

EFFECTIVE DATE: October 7, 2005.

SUMMARY: The Department of Commerce (the “Department”) has determined that a request for a new shipper review of the antidumping duty order on certain preserved mushrooms from the People's Republic of China (“PRC”), received before August 31, 2005, meets the statutory and regulatory requirements for initiation. The period of review (“POR”) of this new shipper review is February 1, 2005, through July 31, 2005.

FOR FURTHER INFORMATION CONTACT: Paul Walker at (202) 482-0413, AD/CVD Operations, Office 9, Import Administration, International Trade Administration, U.S. Department of Commerce, 14th Street and Constitution Avenue, NW., Washington, DC 20230.

SUPPLEMENTARY INFORMATION:

Background

On February 19, 1999, the Department published in the Federal Register an amended final determination and antidumping duty order on certain preserved mushrooms from the PRC. See Notice of Amendment of Final Determination of Sales at Less Than Fair Value and Antidumping Duty Order: Certain Preserved Mushrooms from the People's Republic of China, 64 FR 8308 (February 19, 1999). The notice of opportunity to request an administrative review on certain preserved mushrooms from the PRC was published on February 1, 2005. See Notice of opportunity to request administrative review of antidumping or countervailing duty order, finding, or suspended investigation, 70 FR 5136 (February 1, 2005).¹ On August 23, 2005, we received a new shipper review request from an exporter Guangxi Eastwing Trading Co., Ltd. (“Guangxi Eastwing”) and its supplier Raoping CXF Foods, Inc. (“Raoping CXF”).

¹ Therefore, a request for a new shipper review based on the semi-annual anniversary month, August, would be due to the Department by the last day in August 2005. See 19 CFR 351.214(d)(1).

Pursuant to section 751(a)(2)(B)(i)(I) of the Tariff act of 1930 (the “Act”) and 19 CFR 351.214(b)(2)(i), Guangxi Eastwing certified that it did not export preserved mushrooms to the United States during the period of investigation (“POI”). In addition, pursuant to section 751(a)(2)(B)(i)(I) of the Act and 19 CFR 351.214(b)(2)(ii)(B), Raoping CFX, the producer of the mushrooms exported by Guangxi Eastwing, provided a certification that it did not export the subject merchandise to the United States during the POI. In addition, pursuant to section 751(a)(2)(B)(i)(II) of the Act and 19 CFR 351.214(b)(2)(iii)(A), Guangxi Eastwing certified that, since the initiation of the investigation, it has never been affiliated with any exporter or producer who exported preserved mushrooms to the United States during the POI, including those not individually examined during the investigation. As required by 19 CFR 351.214(b)(2)(iii)(B), Guangxi Eastwing also certified that its export activities were not controlled by the central government of the PRC.

In addition to the certifications described above, Guangxi Eastwing submitted documentation establishing the following: (1) the date on which it first shipped preserved mushrooms for export to the United States; (2) the volume of its first shipment; and (3) the date of its first sale to an unaffiliated customer in the United States.

The Department conducted customs database queries to substantiate that Guangxi Eastwing's shipment of subject merchandise had entered the United States for consumption and had been suspended for antidumping duties.

Initiation of New Shipper Reviews

Pursuant to section 751(a)(2)(B) of the Act and 19 CFR 351.214(d)(1), we find that the request submitted by Guangxi Eastwing meets the threshold requirements for initiation of a new shipper review for shipments of preserved mushrooms from the PRC produced by Raoping CXF and exported by Guangxi Eastwing.

The POR is February 1, 2005, through July 31, 2005. See 19 CFR 351.214(g)(1)(i)(B). We intend to issue preliminary results of this review no later than 180 days from the date of initiation, and final result of this review no later than 270 days from the date of initiation. See section 751(a)(2)(B)(iv) of the Act.

Guangxi Eastwing has certified that it exported, but did not produce, the preserved mushrooms on which it based its request for a new shipper review. Therefore, we will instruct U.S. Customs and Border Protection to allow, at the option of the importer, the posting of a bond or security in lieu of a cash deposit for each entry of preserved mushrooms that were produced by Raoping CXF and exported by Guangxi Eastwing until the completion of the new shipper review, pursuant to section 751(a)(2)(B)(iii) of the Act.

Interested parties that need access to proprietary information in this new shipper review should submit applications for disclosure under administrative protective order in accordance with 19 CFR 351.305 and 351.306.

This initiation and notice are published in accordance with section 751(a)(2)(B) of the Act and 19 CFR 351.214 and 351.221(c)(1)(i).

Dated: September 30, 2005.
Barbara E. Tillman,
Acting Assistant Secretary for Import Administration.

[FR Doc. E5-5542 Filed 10-6-05; 8:45 am]

BILLING CODE 3510-DS-S